GOVERNMENT ACCOUNTABILITY OFFICE

Advisory Council on Government Auditing Standards; Notice of Meeting

The Advisory Council on Government Auditing Standards will meet Friday, November 17, 2006, from 8:30 a.m. to 4:30 p.m., in room 7C13 of the Government Accountability Office building, 441 G Street, NW., Washington, DC.

The Advisory Council on Government Auditing Standards will hold a meeting to discuss GAO's analysis of comments received on the June 2006 exposure draft of revisions to Government Auditing Standards, proposed changes, and any outstanding issues for Council discussion. The meeting is open to the public. Members of the public will be provided an opportunity to address the Council with a brief (five minute) presentation in the afternoon.

Any interested person who plans to attend the meeting as an observer must contact Jennifer Allison, Council Administrator, 202-512-3423. A form of picture identification must be presented to the GAO Security Desk on the day of the meeting to obtain access to the GAO building. For further information, please contact Ms. Allison. Please check the Government Auditing Standards Web page (http://www.gao.gov/govaud/ybk01.htm) one week prior to the meeting for a final agenda.

[Public Law 67-13, 42 Stat. 20 (June 10, 1921)]

Dated: October 25, 2006.
Jeanette Franzel,
Director, Financial Management and Assurance.

[FR Doc. E6-18181 Filed 10-27-06; 8:45 am]

BILLING CODE 1610-02-P